DEPARTMENT OF ENERGY

Federal Energy Regulatory Commission

Combined Notice of Filings #1

Take notice that the Commission received the following electric rate filings:

Docket Numbers: ER24-475-000.

Applicants: Nevada Power Company.

Description: § 205(d) Rate Filing: NPC—Amendments to Attachments N and P to be effective 1/21/2024.

Filed Date: 11/22/23.

Accession Number: 20231122-5171.

Comment Date: 5 p.m. ET 12/13/23.

Docket Numbers: ER24-476-000.

Applicants: ISO New England Inc.

Description: ISO New England Inc. submits confidential and public versions of its informational filing for Forward Capacity Auction 18, which is associated with the 2027-2028 Capacity Commitment Period.

Filed Date: 11/22/23.

Accession Number: 20231122-5206.

Comment Date: 5 p.m. ET 12/7/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 24, 2023.
Debbie-Anne A. Reese,
Deputy Secretary.

[FR Doc. 2023-26388 Filed 11-30-23; 8:45 am]

BILLING CODE 6717-01-P